DEPARTMENT OF TRANSPORTATION

National Highway Traffic Safety Administration

[U.S. DOT Docket No. NHTSA-2014-0126]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes one collection of information for which NHTSA intends to seek OMB approval.

DATES: Comments must be received on or before March 23, 2015.

ADDRESSES: You may submit comments identified by DOT Docket ID Number NHTSA-[docket number] using any of the following methods:

Electronic submissions: Go to http://www.regulations.gov. Follow the online instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Dr. Amanda M. Kelley, Contracting Officer's Representative, Office of Behavioral Safety Research (NTI-132), National Highway Traffic Safety Administration, 1200 New Jersey Avenue SE., W46-495, Washington, DC 20590. Dr. Kelley's phone number is 202-366-7394 and her email address is Amanda.Kelley@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected; and

(iv) how to minimize the burden of the collection of information on those who are to respond, including the use of appropriate automated, electronic, mechanical, or other technological collection techniques or other forms of information technology, e.g., permitting electronic submission of responses.

In compliance with these requirements, NHTSA asks public comment on the following proposed collection of information:

Title: Evaluation of Correct Child Restraint System Installations.

Type of Request: New information collection requirement.

OMB Clearance Number: None.

Form Number: NHTSA Forms 1265, 1266, 1267.

Requested Expiration Date of Approval: 3 years from date of approval.

Summary of the Collection of Information—The National Highway Traffic Safety Administration (NHTSA) proposes to conduct individual data collection session with 150 participants. Each session will require participants to complete a set of questionnaires including: A risk appraisal assessment tool specific to motor vehicle crash and injury risks; a measure of invincibility beliefs; and a demographics questionnaire. Then each participant will be instructed to install a CRS (rear-facing, forward facing, high-back booster, no-back booster) for each of the four child-size dummies (16-month-old, 3-year-old, 6-year-old, and 8-year-old) into one of the four vehicle types (SUV, compact SUV, mini-van, sedan) provided. By providing the participant with the age, height, and weight of the child, and asking the participant to select the appropriate CRS to install, NHTSA will immediately address whether the parent has selected the best restraint type for each child's age and physical dimensions. No verbal instructions on how to use the CRS features or vehicle features will be provided. Participants will be instructed to complete each installation by securing a child-size doll in the CRS. Participants will complete a total of 4 installations.

The order of installations for a given participant will be randomized with respect to CRS type, vehicle type, and child's age/weight/height in order to preclude any effects of sequence and control for any learning or fatigue that might take place. In addition, the CRS within each CRS type (easier, more challenging) and the vehicle type will vary across participants.

After each installation, various types of objective and subjective measures will be collected. Together, these measures will describe how the participant used the CRS system, what problems were encountered, errors identified, how acceptable the system was to the user, and the degree of confidence each participant exhibited with correctly installing the CRS to the vehicle and securing the child in the CRS. Participants will convey this information by responding to a series of ratings and open-ended questions regarding the ease of installation and challenges related to usability of the CRS system, the CRS manual, and the vehicle features and vehicle manual.

Each CRS installation will be video-taped using electronic equipment. Any and all personally identifiable information will be separated from data collected. Also, all identifying information collected during initial scheduling will be separated from collected information, kept on a secure server in password protected files, and discarded when no longer needed. Access to this information will be limited. All information collected during the sessions will be summarized using generic categories and summary statistics.

Description of the Need for the Information and Proposed Use of the Information—The National Highway Traffic Safety Administration (NHTSA) was established by the Highway Safety Act of 1970 (23 U.S.C. 101) to carry out a Congressional mandate to reduce the mounting number of deaths, injuries, and economic losses resulting from motor vehicle crashes on the Nation's highways. As part of this statutory mandate, NHTSA is authorized to conduct research as a foundation for the development of motor vehicle standards and traffic safety programs.

Motor vehicle crashes are a leading cause of death to children in the United States. In 2012 a total of 952 children younger than 13 years died in motor vehicle traffic crashes, and two-thirds of these fatalities occurred among children riding in passenger vehicles. The National Highway Traffic Safety Administration (NHTSA), recommends that all children ages 12 and under be properly buckled in an age- and size-appropriate car seat, booster seat, or seat belt in the rear seat. Currently, there are four types of child restraint systems designed for children: Infant, convertible, combination, and belt-positioning booster seats. Each system is designed to protect a child within a given height and weight category in the event of a crash. Child safety seat (CSS) use reduces the risk for death to infants (aged <1 year) by 71%; and to toddlers (aged 1-4 years) by 54% in passenger vehicles. Booster seat use reduces the risk for serious injury by 45% for children aged 4-8 years when compared with seat belt use alone. Infant, convertible, and combination seats are secured to the vehicle seat using the vehicle's seat belt system or the vehicle's LATCH system, and the child is secured to the seat using the CRS's harness system. Conversely, combination and booster seats provide a transition from the child safety seat with its internal harness to the vehicle lap/shoulder belt by repositioning the child so that the vehicle's seat belt system holds both the child and the booster in place.

While child restraint use has increased over the years, many children are still fatally injured as a result of motor vehicles crashes. One possible explanation for this occurrence could be the large number of child passengers who are either riding unrestrained in vehicles, improperly placed in a CRS, or prematurely graduated to an adult vehicle seat belt system. A NHTSA survey, the National Child Restraint Use Special Study, conducted in 2011, observed and interviewed a nationally representative sample of drivers with child passengers (NHTSA, 2012). The most prevalent installation errors identified in this survey were: Incorrect harness routing slot used, improper harness clip position, loose CRS installation, loose harness straps, and improper lap belt placement. Other potential installation errors may include: Improper routing of the vehicle's seat belt system or lower LATCH straps, and twisting of the seat belt or LATCH. While these errors can be classified as improper installation and/or securement errors, researchers have also identified errors related to caregivers selecting the correct CRS for the children's ages, heights, and weights.

Evaluating the causes of the various selection and installation errors can be challenging. That is, one or more factors may contribute to any one type of installation error. There are numerous CRS makes and models marketed to the consumer, each with its own installation procedures/manual. In addition, vehicle manufacturers design vehicle restraint systems and vehicle seats that are incompatible with various CRSs. New vehicles are continually introduced to the fleet, and CRSs continue to evolve each year. Finally, there is a never-ending flow of new parents/caregivers who need to be educated on child passenger safety. Despite their inexperience, new parents may overestimate their own accuracy in selecting and securely installing a CRS to the vehicle and securing the child in the CRS.

While it might be hard to control for some factors, such as the continuing flow of new parents, and the number and variety of vehicles and CRSs, others might be more easily examined. For example, among the large variety of CRS designs, CRS and vehicle labeling, vehicle seating attachments, and manual designs and instructions, there may be ways to better convey information to the caregivers. In addition, specific features or designs that minimize installation errors could improve the ease of use for CRS for the parent or caregiver. In an effort to reduce the number of errors, NHTSA is undertaking a study to gain some insight into the causes of errors related to selecting and installing CRSs. To accomplish this, NHTSA will evaluate installation performance and caregiver confidence in both experienced and novice CRS users and determine which factors contribute to both installation and securement errors and to determine what factors related to the CRS, vehicle, and user confidence contribute to errors. Identifying these causal factors that contribute to errors related to selecting and installing CRSs, as well as those factors that contribute to accurately selecting and properly installing CRSs for both novice and experienced users, will be the first step in increasing the safety of child passengers in moving vehicles. In addition, overall findings can be made available to CRS manufacturers and vehicle manufacturers related to improvements to specific CRS and vehicle design features that may foster a better fit in the vehicles and securement for children.

Description of the Likely Respondents (Including Estimated Number, and Proposed Frequency of Response to the Collection of Information)—Under this proposed effort, a total of 150 individuals evenly distributed among experienced and novice CRS users. “Experienced” users will be defined as individuals who regularly care for a child under the age of 4 years, transport the child in a vehicle at least twice a week, and also have installed any CRS a minimum of five times in the past 6 months. “Novice” users are defined as individuals who do not regularly transport children and have not installed a CRS in the past 6 months.

NHTSA estimates that each session will last 120 minutes. Each participant will complete four installations, resulting in 600 total installations distributed across vehicle type, CRS type, and child's age, weight, and height. Each CRS installation will be video recorded. Prior to installing the CRS's, participants will complete a set of questionnaires including a risk appraisal assessment tool specific to motor vehicle crash and injury risks, an invincibility beliefs index, and demographics.

Throughout the project, the privacy of all participants will be protected. Personally-identifiable information (names, telephone numbers, email addresses, etc.) will be kept separate from the data collected, and will be stored in restricted folders on secure password protected servers that are only accessible to study staff who have need to access such information. In addition, all data collected from participants will be reported in aggregate, and participant names will not be used in any reports resulting from this project. Rigorous de-identification procedures will be used during summary and feedback stages to ensure no officers will be identified through reconstructive means.

Estimate of the Total Annual Reporting and Record Keeping Burden Resulting from the Collection of Information—NHTSA estimates that the total time for each respondent to participate in the data collection effort will likely not be more than 2 hours. Staff estimates that the travel time for participants will not be more than 30 minutes one-way. Therefore, a maximum of 3 hours of burden will be placed on any one participant. The duration of the study for each participant will be 3 hours, or a total of 450 hours for the 150 participants. The participants will not incur any reporting cost from the information collection. The participants also will not incur any record keeping burden or record keeping cost from the information collection.

Authority: 44 U.S.C. Section 3506(c)(2)(A)

Dated: January 15, 2015.
Jeff Michael,
Associate Administrator, Research and Program Development.

[FR Doc. 2015-00810 Filed 1-20-15; 8:45 am]

BILLING CODE 4910-59-P